DEPARTMENT OF EDUCATION

RIN 1810-ZA09

Notice of Final Clarification of Eligible Local Activities for Improving Literacy Through School Libraries Program

AGENCY: Office of Elementary and Secondary Education, Department of Education.

SUMMARY: The Secretary clarifies the eligible local professional development activities under the Improving Literacy Through School Libraries Program so that school library media specialists can address not only the needs of preschool children but also those of children in grades K-3. The Secretary will use the clarification for the FY 2004 competition and in later years.

EFFECTIVE DATE: This clarification is effective May 5, 2004.

FOR FURTHER INFORMATION CONTACT: Irene Harwarth, U.S. Department of Education, 400 Maryland Avenue, SW., 20202-6200. Telephone: (202) 401-3751, or via the Internet: irene.harwarth@ed.gov.

If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

SUPPLEMENTARY INFORMATION: This clarification of eligible local activities is established to allow professional development activities for library media specialists to better address the reading needs of students in grades K-3.

We published a notice of proposed priority and clarification of eligible local activities for this program in the Federal Register on January 13, 2004 (69 FR 1975). After considering the comments received, the Secretary is clarifying the eligible local activities for the program. The Secretary will not establish the proposed competitive preference priority that reflected the importance of mastering reading skills in grades K-3. Instead, the Secretary announces an invitational priority for the FY 2004 competition as set forth in a notice inviting applications for this program published elsewhere in this issue of the Federal Register.

Analysis of Comments and Changes

In response to our invitation in the notice of proposed priority and clarification of eligible local activities, 15 parties submitted comments on the proposed priority and clarification. An analysis of the comments and of the withdrawal of the competitive preference priority follows.

Generally, we do not address technical and other minor changes—and suggested changes the law does not authorize us to make under the applicable statutory authority.

Clarification of Eligible Local Activities

Comments: Several commenters supported the clarification of eligible local activities that allowed services to benefit grades K-3 as well as preschool. The commenters further recommended that professional development benefiting grades 4-12 also be made an eligible local activity.

Discussion: The statute authorizing the Improving Literacy Through School Libraries Program allows funds to be used for a number of activities designed to improve student literacy skills and academic achievement through the improvement of school libraries. Our interpretation of the program statute is that Congress intended that funds under this program be used to benefit children in any of the grades K-12 with respect to all of the authorized program activities, except professional development. This is because the statutory provision authorizing the use of funds for professional development, unlike other comparable statutory provisions, speaks specifically of professional development only to benefit library media specialists that serve preschool age children. The statute's legislative history, however, supports the use of funds for professional development to benefit children in grades K-3, as well as preschool children. Therefore, while the legislative history supports professional development benefiting grades K-3, it also indicates that it is not preferable to interpret the statute even more broadly to allow professional development benefiting grades 4-12.

Changes: None.

Competitive Preference Priority

Comments: Some commenters were supportive of the proposed competitive preference priority that would award an extra five points to projects primarily serving grades K-3 (“primarily” means that more than 50 percent of an applicant's proposed budget would be used for grades K-3). Other commenters were critical of the competitive preference priority. Some commenters stressed that students in grades higher than K-3 are also at risk academically, and that funds may be needed to respond to higher standards and statewide assessments at grades 4-12. Other commenters stated that funds are necessary to sustain academic gains from strong reading programs already established at the K-3 level.

Discussion: After considering public comment, the Secretary believes that it is unnecessary to establish a competitive preference priority because the Secretary would not wish to discourage applications that meet the needs of grades 4-12. Instead, an invitational priority is established in the notice inviting applications for FY 2004, published elsewhere in this issue of the Federal Register.

Changes: No competitive preference priority will be established.

Clarification of Eligible Local Activities

The Secretary allows grantees to conduct professional development activities for school library media specialists that further the purposes of the program, not only as related to preschool education, but also related to education benefiting children in grades K-3. This is consistent with our interpretation of the statute and its legislative history. The Secretary believes that allowing professional development for school library media specialists benefiting children from preschool through grade 3 can help link projects under this program with efforts such as those funded under the Early Reading First program authorized by section 1221 et seq. of the Elementary and Secondary Education Act of 1965, as amended (ESEA), that benefit teachers of preschool children, and under the Reading First program authorized by section 1201 et seq. of the ESEA that benefit teachers of K-3 children. Professional development for school library media specialists that serve children from preschool through grade 3 will assist these specialists and help them better meet the needs of students and fellow educators.

Executive Order 12866

This clarification of eligible local activities has been reviewed in accordance with Executive Order 12866. Under the terms of the order, we have assessed the potential costs and benefits of this regulatory action.

The potential costs associated with the clarification of eligible local activities are those resulting from statutory requirements and those we have determined as necessary for administering this program effectively and efficiently.

In assessing the potential costs and benefits—both quantitative and qualitative—of this clarification of eligible local activities, we have determined that the benefits of the clarification of eligible local activities justify the costs.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Applicable Program Regulations: 34 CFR parts 75, 77, 79, 80, 81, 82, 84, 85, 97, 98 and 99.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

You may also view this document in text at the Applicant Information link of the following site: http://www.ed.gov/programs/lsl.

Note: The official version of this document is the document published in the Federal Register. Free Internet access to the official edition of the Federal Register and the Code of Federal Regulations is available on GPO Access at: http://www.gpoaccess.gov/nara/index.html.

(Catalog of Federal Domestic Assistance Number 84.364A Improving Literacy Through School Libraries Program)

Program Authority: 20 U.S.C. 6383.

Dated: March 31, 2004.
Raymond J. Simon,
Assistant Secretary for Elementary and Secondary Education.

[FR Doc. 04-7634 Filed 4-2-04; 8:45 am]

BILLING CODE 4000-01-P